DEPARTMENT OF VETERANS AFFAIRS

Privacy Act of 1974; System of Records

AGENCY: Department of Veterans Affairs (VA).

ACTION: Notice of Amendment to System of Records—Veterans, Dependents of Veterans, and VA Beneficiary Survey Records—VA (43VA008) (formerly 43VA71).

SUMMARY: The Privacy Act of 1974 (5 U.S.C. 552(e)(4)) requires that all agencies publish in the Federal Register a notice of the existence and character of their system of records. Notice is hereby given that VA is amending a system of records entitled “Veterans, Dependents of Veterans, and VA Beneficiary Survey Records (43VA71)” as set forth in the Federal Register 40 FR 38095 (August 26, 1975) and amended at 48 FR 52798 (November 22, 1983) and 54 FR 20667 (May 12, 1989). VA is amending the system number and the paragraphs on System Location; Categories of Records in the System; Authority for Maintenance of the System; Policies and Practices for Storing, Retrieving, Accessing, Retaining, and Disposing of Records in the System; including Safeguards; System Manager(s) and Address; and Record Source Categories. VA is adding paragraphs on Purpose(s) and Routine Uses of Records Maintained in the System, including Categories of Users and the Purpose of Such Uses.

DATES: Comments on the establishment of this amended system of records must be received no later than November 13, 2000. If no public comment is received during the period allowed for comment or unless otherwise published in the Federal Register by VA, the system will become effective November 13, 2000.

ADDRESSES: Comments may be submitted to Director, Office of Regulations Management (02D), Department of Veterans Affairs, 810 Vermont Avenue, NW, Washington, DC 20420. Comments will be available for public inspection at the above address in the Office of Regulations Management, Room 1154, between the hours of 8 a.m. and 4:30 p.m., Monday through Friday, excluding Federal holidays.

FOR FURTHER INFORMATION CONTACT: Susan Krumhaus, Department of Veterans Affairs, Program Analysis Service (008A1), 810 Vermont Avenue, NW, Washington, DC 20420, (202) 273-5108.

SUPPLEMENTARY INFORMATION: The number of the system is changed to 43VA008 to reflect the new designation for the Office of the Assistant Secretary for Planning and Analysis.

The system location is changed to reflect the new name of VA Data Processing Center in Austin, Texas, which is now known as the Austin Automation Center (AAC).

The paragraph concerning the categories of records in the system has been amended to more accurately reflect the records maintained in the system. Additionally, VA is amending the categories of records to reflect the fact that VA may also include information obtained from other VA systems of records, the Department of Defense (DoD), and the Department of Health and Human Services (HHS).

Information in this system of records is obtained from survey questionnaire data provided by veterans, dependents, or VA beneficiaries in a survey sample and from veterans, dependents, or VA beneficiaries on specific VA benefit rolls. Information may also be obtained from the Patient Medical Records System (24VA136); the Patient Fee Basis Medical and Pharmacy Records (23VA136); Veterans and Beneficiaries Identification and Records Location Subsystem (38VA23); Compensation, Pension, Education and Rehabilitation Records (58VA21/22); and Health Care Eligibility Center Records (89VA19); DoD utilization files and Defense Eligibility Enrollment Reporting System (DEERS); HHS records; Department of Commerce (DOC) records; and the Health Care Financing Administration (HCFA) Denominator file, Standard Analytical files (inpatient, outpatient, physician supplier, nursing home, hospice, home care, durable medical equipment) and Group Health Plan.

Specific request files, referred to as finder files, will be created for use in submitting requests for veteran-specific data from HHS, HCFA, DoD, or other non-VA data sources. Survey records will be supplemented by including information from the matched HCFA and DoD data records.

Data in the system of records may include:

1. Personal identifiers (respondents' names, addresses, social security numbers, phone numbers, employer identification numbers);

2. Demographic and socioeconomic characteristics (date of birth, sex, race/ethnicity, education, marital status, employment and earnings, financial information, business ownership information);

3. Military service information;

4. Health status information (diagnostic, health care utilization cost, and third-party health plan information); and

5. VA benefit information (VA medical and other benefit eligibility and usage, data on access and barriers to VA benefits or services, data on satisfaction with VA benefits or services).

The records may also include information about DoD military personnel from two categories of DoD files:

1. Utilization files that contain inpatient and outpatient records; and

2. Eligibility files from DEERS, which include data about all military personnel including those discharged from the armed services since 1972.

The records may include information on Medicare beneficiaries from HCFA databases:

1. Denominator file (identifies the population being studied);

2. Standard Analytical files (inpatient, outpatient, physician supplier, nursing home, hospice, home care, durable medical equipment); and

3. Group Health Plan.

VA is amending the authority for maintaining the records to reflect the statutory authority after recodification of Title 38, United States Code, as well as legislation enacted since the system notice was previously published.

VA is adding a paragraph stating the purposes for which VA is gathering and maintaining the records in this system of records.

Under section 527 of Title 38, U.S.C. and the Government Performance and Results Act of 1993, Public Law 103-62, VA is required to measure and evaluate, on an ongoing basis, the effectiveness of VA benefit programs and services. To do this function, VA must collect data through surveys that may be augmented from existing VA systems of records and with information from non-VA sources to:

1. Conduct statistical studies and analyses relevant to VA programs and services for America's veterans. Statistical reports will not contain personal identifiers.

2. Plan and improve services provided to America's veterans;

3. Decide about VA policies, programs, and services for veterans;

4. Study VA's role in the use of VA and non-VA benefits and services by America's veterans; and

5. Study the relationship between the use of VA benefits and services by veterans and their use of related benefits and services from non-VA sources.

VA will not use this system, to take any adverse action against, or to change the benefits of, an individual veteran.

VA is proposing to establish the following routine use disclosures of information maintained in the system:

1. Disclosure of identifying information such as names, social security numbers, demographic and utilization data may be made to Federal agencies such as the DoD, DOC, and HHS to augment or validate survey data for use in statistical studies such as describing VA's role in total benefit coverage and forecasting future demand for VA benefits and services.

2. Disclosure of identifying information such as the employer identification number may be made to the DOC to receive summary business data to study the growth of veteran-owned businesses by area and industry.

3. Disclosure may be made to the National Archives and Records Administration (NARA) and the General Services Administration (GSA) for records management inspections conducted under the authority of Title 44, United States Code.

4. Disclosure may be made to individuals, organizations, private or public agencies, etc. with whom VA has a contract or agreement for the contractor or subcontractor to perform the services of the contract or agreement. VA must be able to provide information to contractors or subcontractors with whom VA has a contract or agreement in order to perform the services of the contract or agreement.

Release of information from these records will be made for research and administrative uses. The Privacy Act permits VA to disclose information about individuals without their consent for routine uses when the information will be used for purposes that are compatible with the purposes for which VA collected the information. In all of the routine use disclosures described above, either the recipient of the information will use the information in connection with a matter relating to one of VA's programs, will use the information to provide a benefit to VA, or disclosure is required by law. VA has determined that release of information for these purposes is a necessary and proper use of information and that specific routine uses for transfer of this information are appropriate.

VA is amending the policies and practices of the agency concerning storage of the data to reflect technological changes.

VA is amending the retrieval paragraph to more concisely state VA's retrieval practice for this system of records.

VA is amending the safeguards paragraph to more fully describe its security procedures for protecting the records, as well as reflect procedures adopted since last publication.

VA is amending the retention and disposal paragraph to reflect that VA's retention and disposal policy has been approved by the Archivist of the United States.

VA is amending the system manager paragraph to reflect the change in the agency official responsible for maintaining the system of records as a result of a reorganization of this office.

VA is amending the paragraph listing the records source categories to include the various sources that VA will use to gather information for this system of records. The rationale for gathering records from these sources is stated in the earlier discussion of the purpose for maintaining these records.

Approved: September 29, 2000.
Hershel W. Gober,
Acting Secretary of Veterans Affairs.

43VA008

System Name:

Veterans, Dependents of Veterans, and VA Beneficiary Survey Records.

System Location:

Computerized records will be maintained at the following computer site locations: VA Austin Automation Center, 1615 Woodward Street, Austin, Texas 78722; VA Central Office, 810 Vermont Avenue, NW, Washington, DC 20420; or with private contractors acting as agents of VA. Paper records are stored at the Washington National Records Center (WNRC) or with private contractors acting as agents of VA.

Categories of Individuals Covered by the System:

The following categories of individuals are covered by this system:

1. Veterans,

2. Dependents of veterans, and

3. Other VA Beneficiaries.

Categories of Records in the System:

The categories of records in the system may include:

1. Personal identifiers (respondents' names, addresses, phone numbers, social security numbers, employer identification numbers);

2. Demographic and socioeconomic characteristics (e.g., date of birth, sex, race/ethnicity, education, marital status, employment and earnings, financial information, business ownership information);

3. Military service information;

4. Health status information (diagnostic, health care utilization cost, and third-party health plan information); and

5. VA benefit information (VA medical and other benefit eligibility and use, data on access and barriers to VA benefits of services, data about satisfaction with VA benefits or services).

The records may also include information about DoD military personnel from two categories of DoD files:

1. Utilization files that contain inpatient and outpatient records, and

2. Eligibility files from DEERS which includes data about all military personnel including those discharged from the armed services since 1972.

The records may include information on Medicare beneficiaries from HCFA databases:

1. Denominator file (identifies the population being studied);

2. Standard Analytical files (inpatient, outpatient, physician supplier, nursing home, hospice, home care, durable medical equipment); and

3. Group Health Plan.

Authority for Maintenance of the System:

Under section 527 of Title 38 U.S.C. and the Government Performance and Results Act of 1993, Public Law 103-62.

Purpose(s):

The purpose of this system of records is to collect data about the characteristics of America's veteran population through surveys that may be augmented with information from several existing VA systems of records and with information from non-VA sources to:

1. Conduct statistical studies and analyses relevant to VA programs and services for America's veterans.

2. Plan and improve services provided to America's veterans;

3. Decide about VA policies, programs, and services for veterans;

4. Study VA's role in the use of VA and non-VA benefits and services by America's veterans; and

5. Study the relationship between the use of VA benefits and services by veterans and their use of related benefits and services from non-VA sources. These types of studies are needed for VA to forecast future demand for VA benefits and services.

Routine Uses of Records Maintained in the System, Including Categories of Users and the Purpose of Such Uses:

Information from this system of records may be disclosed in accordance with the following routine uses:

1. Disclosure of identifying information such as names, social security numbers, and demographic and utilization data may be made to Federal agencies such as the DoD, DOC, and HHS to augment or validate survey data for use in statistical studies such as describing VA's role in total benefit coverage and forecasting future demand for VA benefits or services.

2. Disclosure of identifying information such as the employer identification number may be made to the DOC to receive summary business data to study the growth of veteran-owned businesses by area and industry.

3. Disclosure may be made to the NARA and the GSA for records management inspections conducted under the authority of 44 U.S.C. 2904 and 2906.

4. Disclosure may be made to individuals, organizations, private or public agencies, etc. with whom VA has a contract or agreement for the contractor or subcontractor to perform the services of the contract or agreement.

Policies and Practices for Storing, Retrieving, Accessing, Retaining and Disposing of Records in the System Storage:

Electronic data are maintained on magnetic tape, disk, or laser optical media. Records may also be stored on paper documents.

Retrievability:

Records may be retrieved by name, address, social security number, date of birth, or a combination of identifiers that are unique when used in combination.

Safeguards

1. Access to and use of these records are limited to those persons whose official duties require such access. Personnel screening is employed to prevent unauthorized disclosure.

2. Access to Automated Data Processing (ADP) files is controlled by using an individual unique password entered in combination with an individually unique user identification code.

3. Access to automated records containing identification codes and codes used to access various VA automatic communications systems and records systems, as well as security profiles and possible security violations, is limited to designated automated systems security personnel who need to know the information in order to maintain and monitor the security of VA's automated communications and veteran's claim records systems. Access to these records in automated form is controlled by individually unique passwords/codes. Agency personnel have access to the information on a need to know basis when necessary to advise agency security personnel, to suspend or revoke access privileges, or to make disclosures authorized by a routine use.

4. Access to VA facilities where identification codes, passwords, security profiles and possible security violations are maintained is controlled at all hours by the Federal Protective Service, VA, or other security personnel and security access control devices.

5. Public use files prepared for purposes of research and analysis are purged of personal identifiers.

6. Paper records, when they exist, are maintained in a locked room at the WNRC. The Federal Protective Service protects paper records from unauthorized access.

7. Both paper and electronic data maintained by contractors are held in equally secure conditions.

Retention and Disposal:

Records will be maintained and disposed of in accordance with the records disposal authority approved by the Archivist of the United States and the NARA and published in Agency Records Control Schedules.

System Manager(s) and Address:

Director, Department of Veterans Affairs, Program Analysis Service (008A1), 810 Vermont Avenue, NW, Washington, DC 20420.

Notification Procedure:

An individual who wants to determine whether the Director, Program Analysis Service (008A1) is maintaining a record under the individual's name or other personal identifier or wants to determine the content of such records must submit a written request to the Director, Program Analysis Service (008A1). The individual seeking this information must prove his or her identity and provide the name of the survey in question, approximate date of the survey, social security number, full name, and date of birth

Records Access Procedures:

An individual who seeks access to records maintained under his or her name or other personal identifier may write the System Manager named above and specify the information being requested or contested.

Contesting Record Procedures:

(See Records Access Procedures.)

Records Source Categories:

Information in this system of records is obtained from survey questionnaire data provided by veterans, dependents, or VA beneficiaries in a survey sample and from veterans, dependents, or beneficiaries on specific VA benefit rolls. Information may also be obtained from the Patient Medical Records System (24VA136), the Patient Fee Basis Medical and Pharmacy Records (23VA136); Veterans and Beneficiaries Identification and Records Location Subsystem (38VA23); Compensation, Pension, Education, and Rehabilitation Records (58VA21/22); Health Care Eligibility Center Records (89VA19); DoD utilization files and DEERS files; and HCFA Denominator file, Standard Analytical files (inpatient, outpatient, physician supplier, nursing home, hospice, home care, durable medical equipment) and Group Health Plan.

[FR Doc. 00-26294 Filed 10-12-00; 8:45 am]

BILLING CODE 8320-01-M